DEPARTMENT OF HOMELAND SECURITY

Federal Emergency Management Agency

44 CFR Part 65

[Docket ID FEMA-2008-0020]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Tuscaloosa (FEMA Docket No: B-1019) | Unincorporated areas of Tuscaloosa County (08-04-3997P) | October 15, 2008; October 22, 2008; The Northport Gazette | The Honorable W. Hardy McCollum, Tuscaloosa County Probate Judge, 714 Greensboro Avenue, Tuscaloosa, AL 35401 | February 19, 2009 | 010201
Arizona:
Maricopa (FEMA Docket No: B-1019) | City of El Mirage (08-09-1516P) | October 16, 2008; October 23, 2008; Arizona Business Gazette | The Honorable Fred Waterman, Mayor, City of El Mirage, P.O. Box 26, El Mirage, AZ 85335 | February 20, 2009 | 040041
Maricopa (FEMA Docket No: B-1019) | Unincorporated areas of Maricopa County (08-09-1516P) | October 16, 2008; October 23, 2008; Arizona Business Gazette | The Honorable Andrew W. Kunasek, Chairman, Maricopa County Board of Supervisors, 301 West Jefferson Street, 10th Floor, Phoenix, AZ 85003 | February 20, 2009 | 040037
Maricopa (FEMA Docket No: B-1019) | City of Surprise (08-09-1516P) | October 16, 2008; October 23, 2008; Arizona Business Gazette | The Honorable Lyn Truitt, Mayor, City of Surprise, 12425 West Bell Road, Surprise, AZ 85374 | February 20, 2009 | 040053
Pinal (FEMA Docket No: B-1023) | City of Maricopa (07-09-1819P) | October 26, 2008; November 2, 2008; Casa Grande Dispatch | The Honorable Anthony Smith, Major, City of Maricopa, P.O. Box 610, Maricopa, AZ 85239 | March 3, 2009 | 040052
Pinal (FEMA Docket No: B-1023) | Unincorporated areas of Pinal County (07-09-1819P) | October 26, 2008; November 2, 2008; Casa Grande Dispatch | The Honorable Lionel D. Ruiz, Chairman, Pinal County Board of Supervisors, P.O. Box 827, Florence, AZ 85232 | March 3, 2009 | 040077
Arkansas: Pulaski (FEMA Docket No: B-1019) | City of Little Rock (08-06-2112P) | November 4, 2008; November 11, 2008; Arkansas Democrat Gazette | The Honorable Mark Stodola, Mayor, City of Little Rock, 500 West Markham Street, Suite 203, Little Rock, AR 72201 | October 29, 2008 | 050181
California: Santa Barbara (FEMA Docket No: B-1027) | Unincorporated areas of Santa Barbara County (08-09-0425P) | October 24, 2008; October 31, 2008; Santa Barbara News Press | The Honorable Salud Carbajal, Chairman, Santa Barbara County Board of Supervisors, 105 East Anapamu Street, Santa Barbara, CA 93101 | March 2, 2009 | 060331
Colorado:
Douglas (FEMA Docket No: B-1023) | Town of Parker (08-08-0810P) | October 30, 2008; November 6, 2008; Douglas County News Press | The Honorable David Casiano, Mayor, Town of Parker, 20120 East Main Street, Parker, CO 80138-7334 | March 6, 2009 | 080310
Mesa (FEMA Docket No: B-1027) | City of Fruita (08-08-0501P) | November 14, 2008; November 21, 2008; The Daily Sentinel | The Honorable Ken Henry, Mayor, City of Fruita, 325 East Aspen Avenue, Fruita, CO 81521 | October 31, 2008 | 080194
Mesa (FEMA Docket No: B-1027) | Unincorporated areas of Mesa County (08-08-0501P) | November 14, 2008; November 21, 2008; The Daily Sentinel | The Honorable Craig J. Meis, Commissioner, District 1, Mesa County Board of Commissioners, P.O. Box 20000, Grand Junction, CO 81502 | October 31, 2008 | 080115
Connecticut: New Haven (FEMA Docket No: B-1023) | Town of Branford (08-01-1042P) | November 13, 2008; November 20, 2008; The Sound | The Honorable Anthony DaRos, First Selectman, Town of Branford, 1019 Main Street, Branford, CT 06405 | October 31, 2008 | 090073
Delaware:
Kent (FEMA Docket No: B-1019) | Unincorporated areas of Kent County (08-03-1557P) | October 17, 2008; October 24, 2008; The News Journal | The Honorable P. Brooks Banta, President, Board of Commissioners, 555 Bay Road, Dover, DE 19901 | February 23, 2009 | 100001
New Castle (FEMA Docket No: B-1023) | Unincorporated areas of New Castle County (08-03-0143P) | November 12, 2008; November 19, 2008; The News Journal | The Honorable Christopher Coons, County Executive, New Castle County, 87 Read's Way, New Castle, DE 19720 | October 31, 2008 | 105085
New Castle (FEMA Docket No: B-1023) | City of Wilmington (08-03-0143P) | November 12, 2008; November 19, 2008; The News Journal | The Honorable James M. Baker, Mayor, City of Wilmington, 800 North French Street, Wilmington, DE 19801 | October 31, 2008 | 100028
Florida:
Bay (FEMA Docket No: B-1023) | Unincorporated areas of Bay County (08-04-2649P) | October 31, 2008; November 7, 2008; The News Herald | The Honorable Jerry L. Girvin, Chairman, Bay County Board of Commissioners, 810 West Eleventh Street, Panama City, FL 32401 | March 9, 2009 | 120004
Bay (FEMA Docket No: B-1023) | City of Panama City Beach (08-04-2649P) | October 31, 2008; November 7, 2008; The News Herald | The Honorable Gayle Oberst, Mayor, City of Panama City Beach, 110 South Arnold Road, Panama City Beach, FL 32413 | March 9, 2009 | 120013
Polk (FEMA Docket No: B-1019) | City of Lakeland (08-04-5418P) | October 10, 2008; October 17, 2008; The Ledger | The Honorable Ralph L. Fletcher, Mayor, City of Lakeland, 228 South Massachusetts Avenue, Lakeland, FL 33801 | February 16, 2009 | 120267
Georgia: Columbia (FEMA Docket No: B-1019) | Unincorporated areas of Columbia County (08-04-3896P) | October 19, 2008; October 26, 2008; The Columbia County News Times | The Honorable Ron C. Cross, Chairman, Columbia County Board of Commissioners, P.O. Box 498, Evans, GA 30809 | February 23, 2009 | 130059
Kansas:
Reno (FEMA Docket No: B-1027) | City of Hutchinson (08-07-0175P) | November 12, 2008; November 19, 2008; The Hutchinson News | The Honorable Trish Rose, Mayor, City of Hutchinson, P.O. Box 1567, Hutchinson, KS 67504 | October 31, 2008 | 200283
Reno (FEMA Docket No: B-1027) | Unincorporated areas of Reno County (08-07-0175P) | November 12, 2008; November 19, 2008; The Hutchinson News | Mr. Larry Sharp, Chair, Reno County Commission, Reno County Courthouse, 206 West First Avenue, Hutchinson, KS 67501 | October 31, 2008 | 200567
Minnesota: Olmsted (FEMA Docket No: B-1023) | City of Oronoco (08-05-3390P) | November 12, 2008; November 19, 2008; The News Record | The Honorable Scott Keigley, Mayor, City of Oronoco, P.O. Box 195, Oronoco, MN 55960 | October 31, 2008 | 270330
Missouri: Platte (FEMA Docket No: B-1019) | Unincorporated areas of Platte County (08-07-1586P) | October 15, 2008; October 22, 2008; The Landmark | Mr. Tom Pryor, First District Commissioner, Platte County, Platte County Administrative Building, 415 Third Street, Suite 105, Platte City, MO 64079 | February 19, 2009 | 290475
Nevada: Elko (FEMA Docket No: B-1023) | City of Elko (08-09-0345P) | October 24, 2008; October 31, 2008; Elko Daily Free Press | The Honorable Michael J. Franzoia, Mayor, City of Elko, 1751 College Avenue, Elko, NV 89801 | March 2, 2009 | 320010
South Carolina:
Lexington (FEMA Docket No: B-1023) | Unincorporated areas of Lexington County (08-04-1961P) | October 29, 2008; November 5, 2008; The State | The Honorable William C. Derrik, Chairman, Lexington County Council, 2241 Ridge Road, Leesville, SC 29070 | March 5, 2009 | 450129
Richland (FEMA Docket No: B-1019) | Unincorporated areas of Richland County (08-04-5022P) | October 10, 2008; October 17, 2008; The State | The Honorable Joseph McEachern, Chairman, Richland County Council, Richland County Administrative Building, 2020 Hampton Street, Second Floor, Columbia, SC 29202 | February 16, 2009 | 450170
Tennessee:
Williamson (FEMA Docket No: B-1019) | City of Brentwood (08-04-2646P) | October 16, 2008; October 23, 2008; The Tennessean | The Honorable Joe Reagan, Mayor, City of Brentwood, P.O. Box 788, Brentwood, TN 37024 | February 20, 2009 | 470205
Williamson (FEMA Docket No: B-1019) | Unincorporated areas of Williamson County (08-04-2646P) | October 16, 2008; October 23, 2008; The Tennessean | The Honorable Rogers C. Anderson, Mayor, Williamson County, 1320 West Main Street, Suite 125, Franklin, TN 37064 | February 20, 2009 | 470204
Texas:
Bell (FEMA Docket No: B-1023) | City of Killeen (07-06-1831P) | October 30, 2008; November 6, 2008; Killeen Daily Herald | The Honorable Timothy L. Hancock, Mayor, City of Killeen, P.O. Box 1329, Killeen, TX 76540 | March 6, 2009 | 480031
Bexar (FEMA Docket No: B-1023) | Unincorporated areas of Bexar County (07-06-2018P) | October 31, 2008; November 7, 2008; San Antonio Express News | The Honorable Nelson W. Wolff, Bexar County Judge, 100 Dolorosa Street, Suite 120, San Antonio, TX 78205 | March 9, 2009 | 480035
Bexar (FEMA Docket No: B-1023) | City of San Antonio (07-06-2018P) | October 31, 2008; November 7, 2008; San Antonio Express News | The Honorable Phil Hardberger, Mayor, City of San Antonio, P.O. Box 839966, San Antonio, TX 78283 | March 9, 2009 | 480045
Tarrant (FEMA Docket No: B-1019) | City of Fort Worth (08-06-2295P) | October 9, 2008; October 16, 2008; Fort Worth Star Telegram | The Honorable Mike Moncrief, Mayor, City of Fort Worth, 1000 Throckmorton Street, Fort Worth, TX 76102 | February 13, 2009 | 480596
Tarrant (FEMA Docket No: B-1019) | City of Keller (08-06-2436P) | October 9, 2008; October 16, 2008; Fort Worth Star Telegram | The Honorable Pat McGrail, Mayor, City of Keller, P.O. Box 770, Keller, TX 76244 | February 13, 2009 | 480602
Travis (FEMA Docket No: B-1023) | City of Austin (08-06-2992P) | November 12, 2008; November 19, 2008; Austin American Statesman | The Honorable Will Wynn, Mayor, City of Austin, P.O. Box 1088, Austin, TX 78767 | October 31, 2008 | 480624
Wisconsin:
Juneau (FEMA Docket No: B-1027) | Unincorporated areas of Juneau County (08-05-2953P) | November 13, 2008; November 20, 2008; The Messenger of Juneau County | The Honorable Alan Peterson, Chairman, Juneau County, N3161 Highway G, Mauston, WI 53948 | December 2, 2008 | 550580
Juneau (FEMA Docket No: B-1027) | Village of Union Center (08-05-2953P) | November 13, 2008; November 20, 2008; The Messenger of Juneau County | The Honorable Darold Minett, Mayor, Village of Union Center, P.O. Box 96, Union Center, WI 53962 | December 2, 2008 | 550207
Juneau (FEMA Docket No: B-1027) | Village of Wonewoc (08-05-2953P) | November 13, 2008; November 20, 2008; The Messenger of Juneau County | The Honorable Kevin Jennings, President, Village of Wonewoc, P.O. Box 37, Wonewoc, WI 53968 | December 2, 2008 | 550208

(Catalog of Federal Domestic Assistance No. 97.022, “Flood Insurance.”)

Dated: April 13, 2009.
Michael K. Buckley,
Acting Assistant Administrator, Mitigation Directorate, Department of Homeland Security, Federal Emergency Management Agency.

[FR Doc. E9-9069 Filed 4-20-09; 8:45 am]

BILLING CODE 9110-12-P